DEPARTMENT OF TRANSPORTATION

Federal Aviation Administration

14 CFR Part 39

[Docket No. FAA-2015-4345; Directorate Identifier 2015-SW-049-AD; Amendment 39-18306; AD 2015-22-02]

RIN 2120-AA64

Airworthiness Directives; Bell Helicopter Textron Canada Limited Helicopters

AGENCY: Federal Aviation Administration (FAA), Department of Transportation (DOT).

ACTION: Final rule; request for comments.

SUMMARY: We are superseding emergency airworthiness directive (AD) No. 2015-16-51 (Emergency AD 2015-16-51) for Bell Helicopter Textron Canada Limited (Bell) Model 429 helicopters. Emergency AD 2015-16-51 required inspections of each inboard and outboard tail rotor pitch link assembly for axial or radial bearing play, and if there was axial or radial bearing play, removing the tail rotor pitch link and inspecting for wear. Emergency AD 2015-16-51 was prompted by several reports of worn tail rotor pitch link spherical bearings. We are issuing this supersedure to retain the inspection requirements in Emergency AD 2015-16-51 while revising the applicability and compliance time to clarify that all Bell Model 429 helicopters require recurring inspections regardless of hours time-in-service (TIS) accumulated on the helicopter. These actions are intended to prevent pitch link failure and subsequent loss of control of the helicopter.

DATES: This AD becomes effective November 12, 2015.

We must receive comments on this AD by December 28, 2015.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2015-4345; or in person at the Docket Operations Office between 9 a.m. and 5 p.m., Monday through Friday, except Federal holidays. The AD docket contains this AD, the Transport Canada Emergency AD, the economic evaluation, any comments received, and other information. The street address for the Docket Operations Office (telephone 800-647-5527) is in the ADDRESSES section. Comments will be available in the AD docket shortly after receipt. For service information identified in this AD, contact Bell Helicopter Textron Canada Limited, 12,800 Rue de l'Avenir, Mirabel, Quebec J7J1R4; telephone (450) 437-2862 or (800) 363-8023; fax (450) 433-0272; or at http://www.bellcustomer.com/files/. You may review the referenced service information at the FAA, Office of the Regional Counsel, Southwest Region, 10101 Hillwood Pkwy, Room 6N-321, Fort Worth, TX 76177.

FOR FURTHER INFORMATION CONTACT: David Hatfield, Aviation Safety Engineer, Safety Management Group, Rotorcraft Directorate, FAA, 10101 Hillwood Pkwy, Fort Worth, TX 76177; telephone (817) 222-5110; email david.hatfield@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

Transport Canada, which is the aviation authority for Canada, issued Emergency AD No. CF-2015-16, dated July 2, 2015, to correct an unsafe condition for Bell Model 429 helicopters. Transport Canada advised that in-service reports showed that the tail rotor pitch link spherical bearings have experienced early and accelerated wear. On three occasions, bearings were found worn beyond limits during pre-flight inspections, showing a radial and axial play that was easily detectable. In one case, the spherical bearing separated from the tail rotor pitch link, resulting in damage to the tail rotor blade pitch horn assembly. In another case, the spherical bearing had been inspected and found acceptable during a maintenance inspection; about “1 hour air time” later, it was found worn beyond limits during a pre-flight inspection.

On August 6, 2015, we issued Emergency AD 2015-16-51, which was made immediately effective to all known U.S. owners and operators of Bell Model 429 helicopters. Emergency AD 2015-16-51 required, before further flight and thereafter at intervals not to exceed 50 hours TIS, inspecting each inboard and outboard tail rotor pitch link assembly for axial or radial bearing play. Emergency AD 2015-16-51 also required, if there was axial or radial bearing play, removing the tail rotor pitch link and performing a dimensional inspection for wear. Finally, Emergency AD 2015-16-51 required, if wear exceeded the allowable limits, replacing the tail rotor pitch link assembly.

Actions Since Emergency AD 2015-16-51 Was Issued

On the same day that we issued Emergency AD 2015-16-51, Transport Canada issued a revised Emergency AD No. CF-2015-16R1, dated August 6, 2015, changing the applicability and compliance time to clarify that the inspections are required for all Model 429 helicopters. Transport Canada advises of the possibility that some operators would conclude that no action was required for low time helicopters. Transport Canada Emergency AD No. CF-2015-16R1 removes the following language from the applicability so that it applies to all Model 429 helicopters regardless of time: “that have accumulated 50 hours air time or more.” It also adds language to the compliance time so that the corrective actions must be accomplished within 10 hours air time “or before exceeding 60 hours air time since new, whichever occurs later.” Therefore, we are issuing this AD to make similar revisions.

FAA's Determination

These helicopters have been approved by Transport Canada and are approved for operation in the United States. Pursuant to our bilateral agreement with Canada, Transport Canada, its technical representative, has notified us of the unsafe condition described in its Emergency AD. We are issuing this AD because we evaluated all information provided by Transport Canada and determined the unsafe condition exists and is likely to exist or develop on other helicopters of this same type design.

Related Service Information

Bell issued Alert Service Bulletin 429-15-16, dated February 18, 2015 (ASB) for Bell Model 429 helicopters, S/N 57001 and subsequent, which have accumulated more than 50 hours. The ASB specifies inspecting both inboard and outboard tail rotor pitch link assemblies for axial and radial play. If abnormal wear or bearing play is detected, the ASB specifies removing the affected tail rotor pitch link, performing a dimensional check of both axial and radial play, and replacing any tail rotor pitch link assembly 429-012-112-101 or -103 or pitch link bearing 429-312-107-103 that exceeds the allowable limits.

AD Requirements

This AD retains the inspection requirements of Emergency AD 2015-16-51 but revises the applicability and compliance time. This AD applies to Model 429 helicopters regardless of accumulated TIS. The inspections in this AD are required before further flight for helicopters with 50 or more hours TIS and before accumulating 50 hours TIS for helicopters with less than 50 hours TIS.

Differences Between This AD and the Transport Canada Emergency AD

The Transport Canada Emergency AD requires compliance within 10 hours TIS or before exceeding 60 hours air time, whichever occurs later. This AD requires compliance before further flight for helicopters with 50 or more hours TIS. For helicopters with less than 50 hours TIS, this AD requires compliance before the helicopter accumulates 50 hours TIS.

Interim Action

We consider this AD to be an interim action. If final action is later identified, we might consider further rulemaking then.

Costs of Compliance

We estimate that this AD affects 54 helicopters of U.S. Registry. We estimate that operators may incur the following costs in order to comply with this AD. Labor costs are estimated at $85 per work hour. It will take about 2 work hours to do the inspections at an estimated cost of $170 per helicopter or $9,180 for the fleet per inspection cycle. Replacing a tail rotor pitch link assembly will take 4 work hours and required parts will cost $2,685 for a total cost of $3,025 per helicopter.

FAA's Justification and Determination of the Effective Date

Providing an opportunity for public comments prior to adopting these AD requirements would delay implementing the safety actions needed to correct this known unsafe condition. Therefore, we found and continue to find that the risk to the flying public justifies waiving notice and comment prior to adopting this rule because the previously described unsafe condition can adversely affect the controllability of the helicopter, and the initial required corrective actions must be accomplished before further flight or before accumulating 50 hours TIS, depending upon the hours TIS accumulated on the helicopter.

Since it was found that immediate corrective action was required, notice and opportunity for prior public comment before issuing this AD were impracticable and contrary to the public interest, and good cause existed to make the AD effective immediately by Emergency AD 2015-16-51, issued on August 6, 2015, to all known U.S. owners and operators of these helicopters. These conditions still exist and the Emergency AD is hereby superseded.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-22-02 Bell Helicopter Textron Canada Limited: Amendment 39-18306; Docket No. FAA-2015-4345; Directorate Identifier 2015-SW-049-AD.

(a) Applicability

This AD applies to Model 429 helicopters with a pitch link assembly part number 429-012-112-101 or -103 installed, certificated in any category.

(b) Unsafe Condition

This AD defines the unsafe condition as a worn pitch link. This condition, if not detected and corrected, could result in pitch link failure and subsequent loss of control of the helicopter.

(c) Affected ADs

This AD supersedes Emergency AD 2015-16-51, Directorate Identifier 2015-SW-23-AD, dated August 6, 2015.

(d) Effective Date

This AD becomes effective November 12, 2015.

(e) Compliance

You are responsible for performing each action required by this AD within the specified compliance time unless it has already been accomplished prior to that time.

(f) Required Actions

(1) For helicopters with 50 or more hours time-in-service (TIS), before further flight, and for helicopters with less than 50 hours TIS, before accumulating 50 hours TIS, inspect each inboard and outboard tail rotor pitch link assembly for axial or radial bearing play. If there is axial or radial bearing play, remove the tail rotor pitch link and perform a dimensional inspection for wear. If there is wear that exceeds the allowable limits, replace the tail rotor pitch link assembly.

(2) Thereafter, at intervals not to exceed 50 hours TIS, repeat the inspections required by paragraph (f)(1) of this AD.

(g) Alternative Methods of Compliance (AMOCs)

(1) The Manager, Safety Management Group, FAA, may approve AMOCs for this AD. Send your proposal to: David Hatfield, Aviation Safety Engineer, Safety Management Group, Rotorcraft Directorate, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) Bell Helicopter Alert Service Bulletin 429-15-16, dated February 18, 2015, which is not incorporated by reference, contains additional information about the subject of this AD. For service information identified in this AD, contact Bell Helicopter Textron Canada Limited, 12,800 Rue de l'Avenir, Mirabel, Quebec J7J1R4; telephone (450) 437-2862 or (800) 363-8023; fax (450) 433-0272; or at http://www.bellcustomer.com/files/. You may review the referenced service information at the FAA, Office of the Regional Counsel, Southwest Region, 10101 Hillwood Pkwy., Room 6N-321, Fort Worth, TX 76177.

(2) The subject of this AD is addressed in Transport Canada Emergency AD No. CF-2015-16R1, dated August 6, 2015. You may view the Transport Canada Emergency AD on the Internet at http://www.regulations.gov in Docket No. FAA-2015-4345.

(i) Subject

Joint Aircraft Service Component (JASC) Code: 6720 Tail Rotor Control System.

Issued in Fort Worth, Texas, on October 16, 2015.
Lance T. Gant,
Manager, Rotorcraft Directorate, Aircraft Certification Service.

[FR Doc. 2015-27137 Filed 10-26-15; 8:45 am]

BILLING CODE 4910-13P